DEPARTMENT OF ENERGY

Federal Energy Regulatory Commission

Combined Notice of Filings

Take notice that the Commission has received the following Natural Gas Pipeline Rate and Refund Report filings:

Filings Instituting Proceedings

Docket Number: PR18-63-000.

Applicants: Black Hills Gas Distribution LLC.

Description: Tariff filing per 284.123(b),(e)/: Black Hills Gas Distribution LLC SOC Filing to be effective 6/1/2018.

Filed Date: 7/2/18.

Accession Number: 201807025032.

Comments/Protests Due: 5 p.m. ET 7/23/18.

Docket Number: PR18-38-001.

Applicants: Transfer Fuel, LP.

Description: Tariff filing per 284.123(b),(e)/: Amended Rate Election & SOC of Energy Transfer Fuel, LP Effective March 16, 2018 to be effective 3/16/2018.

Filed Date: 6/27/18.

Accession Number: 201806275096.

Comments/Protests Due: 5 p.m. ET 7/18/18.

Docket Number: CP16-357-000.

Applicants: Columbia Gas Transmission, LLC.

Description: Amendment to Application of Columbia Gas Transmission, LLC.

Filed Date: 7/3/18.

Accession Number: 201807035179.

Comments Due: 5 p.m. ET 7/16/18.

Docket Numbers: RP10-837-000.

Applicants: Dominion Transmission, Inc.

Description: Report Filing: DETI—Operational Gas Sales Report—2018.

Filed Date: 6/29/18.

Accession Number: 20180629-5237.

Comments Due: 5 p.m. ET 7/11/18.

Docket Numbers: RP10-900-000.

Applicants: Dominion Transmission, Inc.

Description: Report Filing: DETI—Informational Fuel Report—2018.

Filed Date: 6/29/18.

Accession Number: 20180629-5236.

Comments Due: 5 p.m. ET 7/11/18.

Docket Numbers: RP18-960-000.

Applicants: Dominion Energy Questar Pipeline, LLC.

Description: § 4(d) Rate Filing: Statement of Negotiated Rates Version 14.0.0 to be effective 8/6/2018.

Filed Date: 7/6/18.

Accession Number: 20180706-5030.

Comments Due: 5 p.m. ET 7/18/18.

Docket Numbers: RP18-961-000.

Applicants: Columbia Gas Transmission, LLC.

Description: § 4(d) Rate Filing: TCO Spotlight Negotiated Rate Agmt to be effective 7/6/2018.

Filed Date: 7/6/18.

Accession Number: 20180706-5043.

Comments Due: 5 p.m. ET 7/18/18.

Docket Numbers: RP18-962-000.

Applicants: Eastern Shore Natural Gas Company.

Description: § 4(d) Rate Filing: Revision of Cash-Out Rates to be effective 7/1/2018.

Filed Date: 7/6/18.

Accession Number: 20180706-5055.

Comments Due: 5 p.m. ET 7/18/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 9, 2018.
Nathaniel J. Davis, Sr.,
Deputy Secretary.

[FR Doc. 2018-14978 Filed 7-12-18; 8:45 am]

BILLING CODE 6717-01-P